DEPARTMENT OF DEFENSE

Defense Acquisition Regulations System

[Docket No. DARS 2011-0072-0002]

Information Collection Requirement; Defense Federal Acquisition Regulation Supplement; Government Property (OMB Control Number 0704-0246)

AGENCY: Defense Acquisition Regulations System, Department of Defense (DoD).

ACTION: Notice and request for comments.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through November 30, 2012. DoD proposes that OMB extend its approval for use for three additional years beyond the current expiration date.

DATES: DoD will consider all comments received by January 27, 2012.

ADDRESSES: You may submit comments, identified by OMB Control Number 0704-0246, using any of the following methods:

• Regulations.gov: http://www.regulations.gov. Follow the instructions for submitting comments.

• Email: dfars@osd.mil. Include OMB Control Number 0704-0246 in the subject line of the message.

• Fax: (703) 602-0350.

• Mail: Defense Acquisition Regulations System, Attn: Ms. Meredith Murphy, OUSD(AT&L)DPAP(DARS), 3060 Defense Pentagon, Room 3B855, Washington, DC 20301-3060.

Comments received generally will be posted without change to http://www.regulations.gov, including any personal information provided. To confirm receipt of your comment(s), please check http://www.regulations.gov approximately two to three days after submission to verify posting, except allow 30 days for posting of comments submitted by mail.

FOR FURTHER INFORMATION CONTACT: Ms. Meredith Murphy, telephone (703) 602-1302; facsimile (703) 602-0350. The information collection requirements addressed in this notice are available on the World Wide Web at: http://www.acq.osd.mil/dpap/dars/dfars.html.

Paper copies are available from Ms. Meredith Murphy, OUSD(AT&L)DPAP(DARS), 3060 Defense Pentagon, Room 3B855, Washington, DC 20301-3060.

SUPPLEMENTARY INFORMATION: Title, Associated Forms, and OMB Number: Defense Federal Acquisition Regulation Supplement (DFARS) part 245, Government Property; DD Form 1149, Requisition and Invoice/Shipping Document; DD Form 1348-1A, DoD Single Line Item Release/Receipt Document; DD Form 1637, Notice of Acceptance of Inventory Schedules; DD Form 1639, Scrap Warranty; DD Form 1640, Request for Plant Clearance; DD Form 1641, Disposal Determination/Approval; and DD Form 1822, End Use Certificate; OMB Control Number 0704-0246.

Needs and Uses: DoD needs this information to account for Government property in the possession of contractors. Property administrators, contracting officers, and contractors use this information to maintain property records and material inspection, shipping, and receiving reports.

Affected Public: Businesses or other for-profit and not-for-profit institutions.

Annual Burden Hours: 18,135.

Number of Respondents: 10,625.

Responses Per Respondent: 1.95.

Annual Responses: 20,765.

Average Burden per Response: 0.87 hours.

Frequency: On occasion.

Summary of Information Collection

This requirement provides for the collection of information related to providing Government property to contractors; contractor use and management of Government property; and reporting, redistribution, and disposal of contractor inventory.

a. DFARS 245.302(1)(i) requires contractors to request and obtain contracting officer approval before using Government property on work for foreign governments and international organizations.

b. DFARS subpart 245.70, Plant Clearance Forms, prescribes the requirements for the use of the following forms:

(1) DD Form 1149, Requisition and Invoice/Shipping Document (JUL 2006): Prescribed at DFARS 245.7001-2, the form is completed by the contractor for transfer and donation of excess contractor inventory.

(2) DD Form 1348-1A, DoD Single Line Item Release/Receipt Document: Prescribed at DFARS 245.7001-3, the form is used when authorized by the plant clearance officer.

(3) DD Form 1640, Request for Plant Clearance (JUN 2003): Prescribed at DFARS 245.7001-4, the contractor completes this form to request plant clearance assistance or transfer plant clearance.

(4) DD Form 1641, Disposal Determination/Approval (APR 2000): Prescribed at DFARS 245.7001-5, this form is used to record rationale for the following disposal determinations:

(i) Downgrade useable property to scrap.

(ii) Abandonment or destruction.

(iii) Noncompetitive sale of surplus property.

(iv) Other disposal actions.

(5) DD Form 1822, End Use Certificate: Addressed at DFARS 245.7001-6, this form is prescribed by DoDI 5230.18, entitled “The DoD Foreign Disclosure and Technical Information System,” and is used when directed by the plant clearance officer.

c. In addition, the following DD forms are prescribed in the clause at DFARS 252.245-7004, Reporting, Reutilization, and Disposal (AUG 2011):

(1) DD Form 1637, Notice of Acceptance of Inventory Schedules (JUN 2003): There is no information collection burden on contractors associated with this form. Government plant clearance officers use this form to indicate acceptance of the contractor's inventory schedules.

(2) DD Form 1639, Scrap Warranty: When scrap is sold by the contractor, after Government approval, the purchaser of the scrap material(s) may be required to certify, by signature on the DD Form 1639, that (i) the purchased material will be used only as scrap and (ii), if sold by the purchaser, the purchaser will obtain an identical warranty from the individual buying the scrap from the initial purchaser. The warranty contained in the DD Form 1639 expires by its terms five years from the date of the sale.

Ynette R. Shelkin,
Editor, Defense Acquisition Regulations System.

[FR Doc. 2011-30484 Filed 11-25-11; 8:45 am]

BILLING CODE 5001-06-P